DEPARTMENT OF THE TREASURY

Office of Foreign Assets Control

Additional Designation of Entities Pursuant to Executive Order 13382

AGENCY: Office of Foreign Assets Control, Treasury.

ACTION: Notice.

SUMMARY: The Treasury Department's Office of Foreign Assets Control (“OFAC”) is publishing the names of 11 newly designated entities whose property and interests in property are blocked pursuant to Executive Order 13382 of June 28, 2005, “Blocking Property of Weapons of Mass Destruction Proliferators and Their Supporters.”

DATES: The designation by the Director of OFAC of the 11 entities identified in this notice pursuant to Executive Order 13382 is effective on March 3, 2009.

FOR FURTHER INFORMATION CONTACT: Assistant Director, Compliance Outreach & Implementation, Office of Foreign Assets Control, Department of the Treasury, Washington, DC 20220, tel.: (202) 622-2490.

SUPPLEMENTARY INFORMATION:

Electronic and Facsimile Availability

This document and additional information concerning OFAC are available from OFAC's Web site (http://www.treas.gov/offices/enforcement/ofac) or via facsimile through a 24-hour fax on demand service, tel.: (202) 622-0077.

Background

On June 28, 2005, the President, invoking the authority, inter alia, of the International Emergency Economic Powers Act (50 U.S.C. 1701-1706) (“IEEPA”), issued Executive Order 13382 (70 FR 38567, July 1, 2005) (the “Order”), effective at 12:01 a.m. eastern daylight time on June 29, 2005. In the Order, the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in an Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

On March 3, 2009, the Director of OFAC, in consultation with the Departments of State, Justice, and other relevant agencies, designated 11 entities whose property and interests in property are blocked pursuant to Executive Order 13382.

The list of additional designees is as follows:

1. BANK MELLI IRAN INVESTMENT COMPANY (a.k.a. BMIIC), Rafiee Alley, Nader Alley, 2 After Serahi Shahid Beheshti, Vali E Asr Avenue, Tehran, Iran; No. 2, Nader Alley, Vali-Asr Str., P.O. Box 3898-15875, Tehran, Iran; Bldg. 2, Nader Alley after Beheshi Forked Road, P.O. Box 15875-3898, Tehran 15116, Iran; Business Registration Document #89584 (Iran) [NPWMD].

2. BANK MELLI PRINTING AND PUBLISHING CO. (a.k.a. BANK MELLI PRINTING CO), Km 16 Karaj Special Road, Tehran, Iran; 18th Km Karaj Special Road, P.O. Box 37515-183, Tehran, Iran; Business Registration Document #382231 (Iran) [NPWMD].

3. BMIIC INTERNATIONAL GENERAL TRADING LTD. (a.k.a. BMIIC TRADING UAE; a.k.a. BMIIGT; a.k.a. “BMIICGT”), P.O. Box 11567, Dubai, United Arab Emirates; Deira, P.O. Box 181878, Dubai, United Arab Emirates [NPWMD].

4. CEMENT INVESTMENT AND DEVELOPMENT COMPANY (a.k.a. CIDCO; a.k.a. CIDCO CEMENT HOLDING), No. 241, Mirdamad Street, Tehran, Iran [NPWMD].

5. FIRST PERSIAN EQUITY FUND (a.k.a. FIRST PERSIA EQUITY FUND; a.k.a. FPEF), Rafi Alley, Vali Asr Avenue, Nader Alley, P.O. Box 15875-3898, Tehran 15116, Iran; Walker House, 87 Mary Street, George Town, Grand Cayman KY1-9002, Cayman Islands; Clifton House, 75 Fort Street, P.O. Box 190, Grand Cayman KY1-1104, Cayman Islands [NPWMD].

6. MAZANDARAN CEMENT COMPANY, Africa Street, Sattari Street No. 40, P.O. Box 121, Tehran 19688, Iran; 40 Satari Ave., Afrigha Highway, P.O. Box 19688, Tehran, Iran [NPWMD].

7. MAZANDARAN TEXTILE COMPANY (a.k.a. SHERKATE NASAJI MAZANDARAN), Kendovan Alley 5, Vila Street, Enghelab Ave., P.O. Box 11365-9513, Tehran 11318, Iran; 28 Candovan Cooy Enghelab Ave., P.O. Box 11318, Tehran, Iran; Sari Ave., Ghaemshahr, Iran [NPWMD].

8. MEHR CAYMAN LTD., Walker House, 87 Mary Street, George Town, Grand Cayman KY1-9002, Cayman Islands [NPWMD].

9. MELLI AGROCHEMICAL COMPANY PJS (a.k.a. SHERKAT MELLI SHIMI KESHAVARZ), Mola Sadra Street, 215 Khordad, Sadr Alley No. 13, Vanak Sq., P.O. Box 15875-1734, Tehran, Iran [NPWMD].

10. MELLI INVESTMENT HOLDING INTERNATIONAL (a.k.a. MEHR), 514, Business Avenue Building, Deira, P.O. Box 181878, Dubai, United Arab Emirates; Registration Certificate Number (Dubai) 0107 issued 30 Nov 2005 [NPWMD].

11. SHOMAL CEMENT COMPANY, Dr. Beheshti Ave., No. 289, Tehran 151446, Iran; 289 Shahid Beheshti Ave., P.O. Box 15146, Tehran, Iran [NPWMD].

Dated: March 3, 2009.
Adam J. Szubin,
Director, Office of Foreign Assets Control.

[FR Doc. E9-9055 Filed 4-20-09; 8:45 am]

BILLING CODE 4811-45-P